DEPARTMENT OF THE INTERIOR

National Park Service

[NPS-WASO-NAGPRA-NPS0033678; PPWOCRADN0-PCU00RP14.R50000]

Notice of Intent To Repatriate Cultural Items: American Numismatic Society, New York, NY

AGENCY: National Park Service, Interior.

ACTION: Notice.

SUMMARY: The American Numismatic Society (the “Museum”), in consultation with the appropriate Indian Tribes or Native Hawaiian organizations, has determined that the cultural item listed in this notice meets the definition of an unassociated funerary object. Lineal descendants or representatives of any Indian Tribe or Native Hawaiian organization not identified in this notice that wish to claim this cultural item should submit a written request to the Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Museum at the address in this notice by May 6, 2022.

FOR FURTHER INFORMATION CONTACT: Dr. Gilles Bransbourg, Executive Director, American Numismatic Society, 75 Varick Street, 11th Floor, New York, NY 10013, telephone (212) 571-4470, email gbransbourg@numismatics.org.

SUPPLEMENTARY INFORMATION: Notice is hereby given in accordance with the Native American Graves Protection and Repatriation Act (NAGPRA), 25 U.S.C. 3005, of the intent to repatriate a cultural item under the control of the American Numismatic Society, New York, NY, that meets the definition of an unassociated funerary object under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

In or around 1883, one cultural item was removed from a Skidi Pawnee burial site in Nance County, NE. The item was acquired by Orlando Thompson. Thompson was accompanied by his niece Mary Ellsworth (née Thompson), to whom he presented the item. Some years later, Ms. Ellsworth loaned the item to the Nebraska State Historical Society, before selling it to J. Sanford Saltus, who purchased the item on behalf of the Museum in 1922.

The one unassociated funerary object is a silver medal bearing the inscription “TO THE BRAVEST OF THE BRAVE,” and depicting an episode in which Chief Petalesharo of the Skidi Pawnee rescued a Comanche woman from human sacrifice as part of the Morning Star ceremony. The episode received national attention. When Chief Petalesharo visited Washington, DC, in 1821, the female students of Miss White's Seminary reportedly commissioned a medal in his honor and gifted it to him.

The Skidi Pawnee, of which Chief Petalesharo was a member, today constitute a band of the Pawnee Nation of Oklahoma. Andrew Knife Chief (“Knife Chief”) contacted the Museum and identified himself as a lineal descendant of Chief Petalesharo, based on genealogical records and by means of the traditional kinship system of the Pawnee Nation. In a letter dated January 11, 2022, the Pawnee Nation of Oklahoma informed the Museum that the Pawnee Nation of Oklahoma, including the Nasharo Council and Skidi Band, fully supported Mr. Knife Chief's claim, as he is considered a lineal descendant of Chief Petalesharo.

Determinations Made by the American Numismatic Society

Officials of the American Numismatic Society have determined that:

• Pursuant to 25 U.S.C. 3001(3)(B), the one cultural item described above is reasonably believed to have been placed with or near the human remains of Chief Petalesharo of the Skidi Pawnee at the time of death or later as part of the death rite or ceremony of the Skidi Pawnee and is believed, by a preponderance of the evidence, to have been removed from the burial site of Chief Petalesharo.

• Pursuant to 43 CFR 10.14(b), Andrew Knife Chief is a lineal descendant of Chief Petalesharo, based on genealogical records and by means of the traditional kinship system of the Pawnee Nation of Oklahoma.

Additional Requestors and Disposition

Lineal descendants or representatives of any Indian Tribe or Native Hawaiian organization not identified in this notice that wish to claim this cultural item should submit a written request with information in support of the claim to Dr. Gilles Bransbourg, Executive Director, American Numismatic Society, 75 Varick Street, 11th Floor, New York, NY 10013, telephone (212) 571-4470, email gbransbourg@numismatics.org, by May 6, 2022. After that date, if no additional claimants have come forward, transfer of control of the unassociated funerary object to Andrew Knife Chief may proceed.

The Museum is responsible for notifying Andrew Knife Chief and the Pawnee Nation of Oklahoma that this notice has been published.

Dated: March 30, 2022.
Melanie O'Brien,
Manager, National NAGPRA Program.

[FR Doc. 2022-07168 Filed 4-5-22; 8:45 am]

BILLING CODE 4312-52-P